DEPARTMENT OF COMMERCE

International Trade Administration

[C-570-173]

Vanillin From the People's Republic of China: Postponement of Preliminary Determination in the Countervailing Duty Investigation

AGENCY: Enforcement and Compliance, International Trade Administration, Department of Commerce.

DATES: Applicable August 13, 2024.

FOR FURTHER INFORMATION CONTACT: Jeff Pedersen, AD/CVD Operations, Enforcement and Compliance, International Trade Administration, U.S. Department of Commerce, 1401 Constitution Avenue NW, Washington, DC 20230, telephone: (202) 482-2769.

SUPPLEMENTARY INFORMATION:

Background

On June 25, 2024, the U.S. Department of Commerce (Commerce) initiated a countervailing duty (CVD) investigation of imports of vanillin from the People's Republic of China (China).¹ On July 22, 2024, Commerce tolled certain deadlines in this administrative proceeding by seven days.² The deadline for this preliminary determination is now September 5, 2024, which is the original August 29, 2024, deadline tolled by seven days.

¹ See Vanillin from the People's Republic of China: Initiation of Countervailing Duty Investigation, 89 FR 54421 (July 1, 2024).

² See “Memorandum, Tolling of Deadlines for Antidumping and Countervailing Duty Proceeding,” dated July 22, 2024.

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination in a CVD investigation until no later than 130 days after the date on which Commerce initiated the investigation if: (A) the petitioner makes a timely request for an extension of the period within which the determination must be made; or (B) Commerce concludes that the parties concerned are cooperating, that the investigation is extraordinarily complicated, and that additional time is necessary to make the preliminary determination. Under 19 CFR 351.205(e), if the petitioner seeks postponement of a preliminary determination in a CVD investigation, it must submit its request for postponement 25 days or more before the scheduled date of the preliminary determination and must state the reasons for the request. Commerce will grant the request unless it finds compelling reasons to deny the request.

On August 1, 2024, Solvay USA, LLC (Solvay), the petitioner in this investigation, timely requested that Commerce postpone the preliminary determination in the investigation.³ The petitioner requested postponement of the preliminary determination because it believes that Commerce requires more time to collect and investigate information that is necessary for determining accurate countervailable subsidy rates.⁴

³ See Solvay's Letter, “Request to Postpone Preliminary CVD Determination,” dated August 1, 2024.

⁴ Id.

In accordance with 19 CFR 351.205(e), the petitioner submitted its request for postponement of the preliminary determination in this investigation 25 days or more before the scheduled date of the preliminary determination and stated the reasons for its request. For the reasons stated above, and because there are no compelling reasons to deny the request, as a result, Commerce will issue its preliminary determination in the above-referenced investigation no later than November 12, 2024,⁵ in accordance with section 703(c)(1)(A) of the Act.

⁵ Postponing the preliminary determination makes the deadline Saturday, November 9, 2024. Monday, November 11, 2024, is a Federal holiday. Commerce's practice dictates that where a deadline falls on a weekend or federal holiday, the appropriate deadline is the next business day, in this case Tuesday, November 12, 2024. See Notice of Clarification: Application of “Next Business Day” Rule for Administrative Determination Deadlines Pursuant to the Tariff Act of 1930, As Amended, 70 FR 24533 (May 10, 2005).

Pursuant to section 705(a)(1) of the Act and 19 CFR 351.210(b)(1), the deadline for the final determination in this investigation will continue to be 75 days after the date of the preliminary determination.

Notification to Interested Parties

This notice is issued and published pursuant to section 703(c)(2) of the Act and 19 CFR 351.205(f)(1).

Dated: August 6, 2024.
Scot Fullerton,
Acting Deputy Assistant Secretary for Antidumping and Countervailing Duty Operations.

[FR Doc. 2024-17996 Filed 8-12-24; 8:45 am]

BILLING CODE 3510-DS-P